DEPARTMENT OF TRANSPORTATION

Federal Aviation Administration

[Docket No. FAA-2019-0630]

Agency Information Collection Activities: Requests for Comments; Clearance of New Approval of Information Collection: Privacy International Civil Aviation Organization (ICAO) Address Program

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on August 22, 2019. The collection involves an aircraft operator's request for a Privacy ICAO Address through a web-based application process. The collected information is necessary to qualify for the authorized use of the Privacy ICAO Address(es) and for monitoring airworthiness and enforcement activities.

DATES: Written comments should be submitted by December 30, 2019.

ADDRESSES: Interested persons are invited to submit written comments on the proposed information collection to the Office of Information and Regulatory Affairs, Office of Management and Budget. Comments should be addressed to the attention of the Desk Officer, Department of Transportation/FAA and sent via email to oira_submission@omb.eop.gov, or faxed to (202) 395-6974, or mailed to the Office of Information and Regulatory Affairs, Office of Management and Budget, Docket Library, Room 10102, 725 17th Street NW, Washington, DC 20503.

FOR FURTHER INFORMATION CONTACT: For further questions concerning this action, contact Syed Tahmid by email at: syed.tahmid@faa.gov or phone at (202) 267-8784.

SUPPLEMENTARY INFORMATION:

Public Comments Invited: You are asked to comment on any aspect of this information collection, including (a) whether the proposed collection of information is necessary for FAA's performance; (b) the accuracy of the estimated burden; (c) ways for FAA to enhance the quality, utility, and clarity of the information collection; and (d) ways that the burden could be minimized without reducing the quality of the collected information. The agency will summarize and/or include your comments in the request for OMB's clearance of this information collection.

OMB Control Number: 2120-XXXX.

Title: Privacy International Civil Aviation Organization (ICAO) Address Program.

Form Numbers: Information is collected via a website specific to the Privacy International Civil Aviation Organization (ICAO) Address Program.

Type of Review: New information collection.

Background: The Federal Register Notice with a 60-day comment period soliciting comments on the following collection of information was published on August 22, 2019 (84 FR 43860). On May 28, 2010, the FAA issued the final rule, “Automatic Dependent Surveillance-Broadcast (ADS-B) Out Performance Requirements to Support Air Traffic Control (ATC) Service” (75 FR 30160). In the final rule, the FAA mandated equipage requirements and performance standards for ADS-B Out avionics on aircraft operating in most controlled airspace after January 1, 2020. The regulation requires persons operating in the specified airspace to equip with ADS-B Out avionics that meet the requirements in 14 CFR 91.225 and 91.227. Under § 91.227(d)(11), an aircraft must broadcast the aircraft's assigned ICAO 24-bit address. Each registered aircraft is assigned an aircraft registration number which has a corresponding ICAO 24-bit aircraft address. The aircraft registration number and ICAO 24-bit aircraft address are also referred to as a “Mode S Code” in some FAA documents and websites, including the FAA Aircraft Registry.

Pursuant to § 91.227, 1090-MHz Extended Squitter (1090ES) is required above Flight Level (FL) 180 and ICAO 24-bit aircraft addresses are used within the transponder standards to identify aircraft. The ICAO 24-bit aircraft address is openly broadcasted on the 1090-MHz frequency via the transponder and ADS-B messages, resulting in availability of aircraft identity to the public.

Industry stakeholders have advocated that FAA develop a process to provide aircraft operators an option to be anonymous with their aircraft movements and identity. Stakeholders emphasized the importance of not being traced or seen by privately owned sensors that monitor the 1090-MHz frequency along with other downlinked ADS-B and Mode S data being disseminated using the internet.

FAA acknowledges the desire of some owners and operators to limit the availability of real-time ADS-B position and identification information for a specific aircraft. To address privacy concerns, the FAA has initiated the Privacy ICAO Address Program to improve the privacy of eligible aircraft. The Privacy ICAO Address Program will enable interested aircraft owners and operators to request an alternate, temporary ICAO Aircraft Address, which will not be assigned to another owner or operator in the Civil Aviation Registry. To participate in the program, each operator's aircraft must meet the following requirements:

• Qualify as a United States registered aircraft;

• Be equipped with 1090-MHz ADS-B avionics;

• Use a third-party call sign; and,

• Operate in domestic United States airspace.

The Privacy ICAO Address Program will be available in two phases:

Phase 1: During Phase 1, the FAA will implement an interim solution. The FAA will assign operate, monitor, and maintain all temporary ICAO 24-bit aircraft addresses. The FAA plans to have the Privacy ICAO Address Program application website, https://www.faa.gov/nextgen/equipadsb/privacy/, in place by January 1, 2020, to meet industry concerns, until Phase 2 is finalized.

Phase 2: During Phase 2, a third-party service provider(s) will succeed FAA in the assignment, operation, monitoring, and maintenance of all temporary ICAO 24-bit aircraft addresses. The FAA will continue to have oversight of assignments. The Privacy ICAO Address Program, which will continue to be available from https://www.faa.gov/nextgen/equipadsb/privacy/.

Participation in the Privacy ICAO Addresses Program is voluntary. However, the FAA must collect the operator's information in order to assign a Privacy ICAO Address(es). In order to receive a Privacy ICAO Address assignment, during either Phase 1 or Phase 2, the requestor will be required to submit the following information:

1. Acknowledgement of the FAA notification of collection and management of personally identifiable information (PII) for the management of Privacy ICAO Address assignment and their use in the National Airspace System (NAS);

2. Acknowledgement of the Privacy ICAO Address Rules of Use in the NAS;

3. Valid aircraft registration (which includes a permanent ICAO 24-bit aircraft address) for the aircraft that will be assigned the Privacy ICAO Address;

4. Proof of authorization to use a third-party flight identification (Flight ID) along with the identity of the provider;

5. Aircraft owner's contact information (phone number, email address, and business or home address);

6. Aircraft owner's individual/company/organization information;

7. Requester's contact information (phone number, email address, and business or home address);

8. Validation that the aircraft's ADS-B emitter (avionics) performance is qualified for ADS-B operations (i.e., a completed Public ADS-B Performance Report (PAPR) within the past 180 days); and,

9. Aircraft operator's justification for Freedom of Information Act (FOIA) exemption, if applicable.

The FAA, during Phase 1 and Phase 2, will verify the information provided by the requester prior to the Privacy ICAO Address being assigned by the FAA or third-party provider to ensure that the aircraft does not have any open FAA enforcement actions. Any outstanding issues would preclude the use of Privacy ICAO Address(es) until the current action is resolved.

Only U.S. registered aircraft can participate in the FAA's Privacy ICAO Address Program. Additionally, operators cannot use a Privacy ICAO Address(es) for a U.S. registered aircraft, unless that operator is also using a third-party flight identification for that same aircraft. Only one unique Privacy ICAO Address will be assigned to a U.S. registered aircraft at any given time. Once approved, the aircraft owner or operator will be assigned a Privacy ICAO Address. An operator can change a Privacy ICAO Address for an aircraft, but no more often than once during:

Phase 1: A 60-calendar day period from the previous Privacy ICAO Address assignment; and

Phase 2: A 20-business day period from the previous Privacy ICAO Address assignment.

Upon receiving the assigned temporary Privacy ICAO Address the requester has 30 calendar days to program the aircraft's ADS-B transponder to the assigned Privacy ICAO Address, fly in ADS-B coverage airspace, and complete the verification process via the website (e.g., PAPR). Once the FAA acknowledges that the verification process is complete and validates that the reprogrammed ADS-B transponder is emitting the correct Privacy ICAO Address, the requester will receive a final confirmation via email. However, if the requester does not submit a PAPR within 30 calendar days of the Privacy ICAO Address assignment, the assigned Privacy ICAO Address will be rescinded, and the requester will need to start the application process again. For more information on the Public ADS-B Performance Report (PAPR) see: https://adsbperformance.faa.gov/paprrequest.aspx.

The FAA received six responses to FAA's Privacy ICAO Address Program's Federal Register Notice published on August 22, 2019 (84 FR 43860). All six responses strongly supported FAA's effort to facilitate privacy for aircraft operators who have aircraft equipped with 1090ES (1090-MHz Extended Squitter Automatic Dependent Surveillance—Broadcast (ADS-B)).

Of the six responses, two respondents provided comments for FAA's consideration:

1. One commenter suggested that FAA allow operators to verify that the new temporary Privacy ICAO Address code is entered correctly without requiring a test flight as they are onerous and expensive.

FAA's Response: FAA supports a cost efficient process to ensure operators participating in the Privacy ICAO Address Program have entered the temporary Privacy ICAO Address correctly without imposing onerous requirements for obtaining a PAPR. For the purpose of the Privacy ICAO Address Program, a flight in any ADS-B coverage airspace will suffice for the sake of a Privacy ICAO Address verification flight. Moreover, the verification flight does not need to be a dedicated flight. Aircraft owners may elect to complete the verification flight as part of any routine flight following the installation of a Privacy ICAO Address. If an operator(s) cannot perform a verification flight within 30 days of receiving a Privacy ICAO Address assignment, the operator(s) should contact the Privacy ICAO Address helpdesk at adsbprivacyicao@faa.gov. The FAA may grant an extension if additional time is needed for valid reasons.

2. Two similar comments, from two separate respondents, suggested that FAA not make Privacy ICAO Address Program eligibility contingent on the aircraft owner or operator having a third-party call sign.

FAA's Response: FAA continues to support the use of third-party Flight IDs (third-party call signs) as a critical component of the Privacy ICAO Address Program. The term “aircraft call sign” (Aircraft ID) means the radiotelephony call sign assigned to an aircraft for voice communications purposes. For general and business aviation aircraft, the aircraft call sign is normally associated with the aircraft registration number (tail number) and may be preset. Aircraft ID must match what is in the air traffic control flight plan. Mode S transponder functionality includes automatic transmission of aircraft call sign and Mode S 24-bit aircraft address(es). Both can be readily used with searching aircraft ownership information via FAA's Civil Aviation Registry (CAR). Without the use of third-party Flight IDs, the broadcasting of an aircraft call sign (i.e., N-number or aircraft registration number) would still expose aircraft in FAA's CAR and no longer make aircraft operations anonymous. FAA Privacy ICAO Addresses associated with temporary or alternate N-numbers associated with the CAR would also not be a suitable alternative because of operational safety concerns. The use of the temporary call sign through a third-party call sign provider matched to a temporary Privacy ICAO Address(es) is a much better and more effective approach to the privacy issue.

Third-party call signs are available from a “Third-party Call Sign Provider”, a commercial service which has a security agreement with FAA. The aircraft operator is responsible for inputting the Privacy ICAO Address(es) and designated third-party Flight ID in avionics exactly as filed in the ICAO flight plan. The aircraft operator will not be permitted to change the Privacy ICAO Address or the third-party call sign in-flight.

An aircraft operator may use the original aircraft's Flight ID (i.e., N-number or aircraft registration number) and permanent ICAO aircraft address originally assigned and recorded in the Civil Aviation Registry at any time for operations, including any time while having an active Privacy ICAO Address assignment. However, the FAA requires that the user submit documented validation that an ICAO code has been correctly installed into the aircraft's ADS-B avionics after each change. Use of the assigned ICAO aircraft address recorded in the CAR is required for all flights leaving U.S. sovereign airspace, and it may be used for any other flights at any time, as desired by the aircraft operator.

For monitoring use of Privacy ICAO Addresses, the information supplied by the operator will be downloaded by the FAA and entered into the FAA's ADS-B Performance Monitor (82 FR 60302, December 20, 2017).

The FAA is seeking comments from the public regarding the information that is collected for the Privacy ICAO Address program and its process. The information provided in this notice is solely to identify and collect information from the public on the potential burden to an individual that may result from this program.

Respondents: Intended for operators who seek anonymous aircraft operations to avoid monitoring via open broadcast of aircraft data on 1090-MHz frequency receivers. FAA estimates that up to 15,000 respondents may utilize the Privacy ICAO Address Program.

Frequency: Unless an operator seeks a new Privacy ICAO Address or terminates the use of its existing Privacy ICAO Address, an operator can continue to use the temporary Privacy ICAO Address assignment as long as desired. However, aircraft operators may request regular Privacy ICAO Address reassignments within the agreed timeframe.

Estimated Average Burden per Response: Approximately 15 minutes per application.

Estimated Total Annual Burden: Total estimate of burden hours for 15,000 users (individual aircraft owners and operators) is approximately 12,562.5 hours. (this is an approximation based on some individual aircraft owners and operators requesting new Privacy ICAO Address(es) reassignments on a regular or semi-regular schedule; e.g., 20-days, monthly, quarterly or semi-annually.)

Issued in Washington, DC.
David E. Gray,
Acting Deputy Director, Surveillance Services (AJM-4), Program Management Organization, Air Traffic Organization, Federal Aviation Administration.

[FR Doc. 2019-25922 Filed 11-27-19; 8:45 am]

BILLING CODE 4910-13-P